ENVIRONMENTAL PROTECTION AGENCY

[EPA-R04-OAR-2005-AL-0003-200604; FRL-8036-2 ]

Adequacy Status of the Birmingham, AL 8-hour Ozone Redesignation and Maintenance Demonstration for Transportation Conformity Purposes

AGENCY: Environmental Protection Agency (EPA).

ACTION: Notice of adequacy.

SUMMARY: In this notice, EPA is notifying the public that EPA has found that the Motor Vehicle Emissions Budgets (MVEBs) in the Birmingham, Alabama 8-hour ozone redesignation and maintenance demonstration, dated January 27, 2006, by the Alabama Department of Environmental Management (ADEM), are adequate for transportation conformity purposes. On March 2, 1999, the D.C. Circuit Court ruled that submitted State Implementation Plans (SIPs) cannot be used for transportation conformity determinations until EPA has affirmatively found them adequate. As a result of EPA's finding, the Birmingham area can use the MVEBs from the submitted Birmingham, Alabama 8-hour ozone maintenance plan for future conformity determinations.

DATES: These MVEBs are effective March 10, 2006.

FOR FURTHER INFORMATION CONTACT: Amanetta Wood, Environmental Scientist, U.S. Environmental Protection Agency, Region 4, Air Planning Branch, Air Quality Modeling and Transportation Section, 61 Forsyth Street, SW., Atlanta, Georgia 30303. Ms. Wood can also be reached by telephone at (404) 562-9025, or via electronic mail at wood.amanetta@epa.gov. The finding is available at EPA's conformity Web site: http://www.epa.gov/otaq/transp.htm (once there, click on the “Transportation Conformity” text icon, then look for “Adequacy Review of SIP Submissions”).

SUPPLEMENTARY INFORMATION:

Background

Today's notice is simply an announcement of a finding that EPA has already made. EPA Region 4 sent a letter to ADEM on February 2, 2006, stating that the MVEBs in the submitted Birmingham, Alabama 8-hour ozone maintenance plan, dated January 27, 2006, are adequate. The Birmingham, Alabama 8-hour ozone maintenance area is comprised of Jefferson and Shelby Counties. EPA's adequacy comment period ran from November 17, 2005, through December 19, 2005. During EPA's adequacy comment period no adverse comments were received. This finding has also been announced on EPA's conformity Web site: http://www.epa.gov/otaq/transp/conform/adequacy.htm, (once there, look for “What SIP submissions are currently under EPA Adequacy Review?”). The adequate MVEBs are provided in the following table:

Birmingham Area MVEBs
[Tons per day]
| 2017
VOC | 23
NOX | 42

Transportation conformity is required by section 176(c) of the Clean Air Act, as amended in 1990. EPA's conformity rule requires that transportation plans, programs and projects conform to state air quality implementation plans and establishes the criteria and procedures for determining whether or not they do. Conformity to a SIP means that transportation activities will not produce new air quality violations, worsen existing violations, or delay timely attainment of the national ambient air quality standards.

The criteria by which EPA determines whether a SIP's MVEBs are adequate for transportation conformity purposes are outlined in 40 CFR 93.118(e)(4). Please note that an adequacy review is separate from EPA's completeness review, and it also should not be used to prejudge EPA's ultimate approval of the SIP. Even if EPA finds the MVEBs adequate, the Agency may later determine that the SIP itself is not approvable.

EPA has described the process for determining the adequacy of submitted SIP budgets in guidance (May 14, 1999, memorandum entitled “Conformity Guidance on Implementation of March 2, 1999, Conformity Court Decision”). EPA has followed this guidance in making this adequacy determination. This guidance is incorporated into EPA's July 1, 2004, final rulemaking entitled, “ Transportation Conformity Rule Amendments for the New 8-hour Ozone and PM2.5 National Ambient Air Quality Standards and Miscellaneous Revisions for Existing Areas; Transportation Conformity Rule Amendments: Response to Court Decision and Additional Rule Changes” (69 FR 40004).

Authority: 42 U.S.C. 7401 et seq.

Dated: February 13, 2006.
A. Stanley Meiburg,
Acting Regional Administrator, Region 4.

[FR Doc. E6-2575 Filed 2-22-06; 8:45 am]

BILLING CODE 6560-50-P